DEPARTMENT OF HEALTH AND HUMAN SERVICES

Centers for Disease Control and Prevention

[60Day-04-07]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: National Surveillance System for Hospital Health Care Workers (NaSH) (0920-0417)—Renewal—National Center for Infectious Diseases (NCID), Centers for Disease Control and Prevention (CDC).

Background

CDC has developed a surveillance system now called the National Surveillance System for Health Care Workers (NaSH) that focuses on surveillance of exposures and infections among hospital-based health care workers (HCWs). NaSH includes standardized methodology for various occupational health issues. It is a collaborative effort of CDC, National Center for Infectious Diseases, Division of Healthcare Quality and Promotion, Division of Viral Hepatitis, Division of Tuberculosis (TB) Elimination; CDC, National Center for HIV, STD, and TB Prevention, National Immunization Program (NIP), and National Institute for Occupational Safety and Health (NIOSH). NaSH consists of modules for collection of data about various occupational issues. Baseline information about each HCW such as demographics and vaccination history is collected when the HCW is enrolled in the system. Results of routine tuberculin skin test (TST) are collected and entered in the system every time a TST is placed and read; follow-up information is collected for HCWs with a positive TST. When a HCW is exposed to blood/bloodborne pathogen, to a vaccine-preventable disease (VPD), or to an infectious TB patient/HCW, epidemiologic data are collected about the exposure. For HCWs exposed to a bloodborne pathogen (i.e., HIV, HCV, or HBC) and for susceptible HCWs exposed to VPDs, additional data are collected during follow-up visits. Once a year, hospitals complete a survey to provide denominator data and every 2-5 years, the hospitals perform a survey to assess the level of underreporting of needlesticks (HCW Survey). Optionally, hospitals may collect information about HCW noninfectious occupational injuries such as acute musculoskeletal injuries. Data are entered into the software and transmitted on diskette to CDC. No HCW identifiers are sent to CDC. This system is protected by the Assurance of Confidentiality (308d).

Data collected in NaSH have assisted hospitals, HCWs, health care organizations, and public health agencies. This system has allowed CDC to monitor national trends, to identify newly emerging hazards for HCWs, to assess the risk of occupational infection, and to evaluate preventive measures, including engineering controls, work practices, protective equipment, and post-exposure prophylaxis to prevent occupationally acquired infections. Hospitals that volunteer to participate in this system benefit by receiving technical support and standardized methodologies, including software, for conducting surveillance activities on occupational health.

This system was developed and piloted in large teaching hospitals (RFP-200-94-0834(P) and RFP-200-96-0524(P)). The first pilot included four hospitals and the second, five. After the refinement pilot in an additional 13 hospitals (PA-786 and interagency agreements), participation in NaSH became voluntary. The system is being made available to all healthcare facilities in the United States wishing to participate voluntarily in the project. We anticipate no more than 75 hospitals participating by the end of fiscal year 2004 and potentially 85 by the end of fiscal year 2005. The burden estimate has been reduced from that projected 3 years ago because of a drop in the number of facilities actively participating in NaSH. To participate in NaSH, hospitals are required to provide information on all exposures to infectious agents, baseline information on the exposed HCWs, as well as the underreporting and hospital surveys.

A new component of NaSH will be forms for collecting information on exposures and injuries associated with smallpox vaccination. It uses a reporting form based on the blood exposure form already approved for use in NaSH and a root-cause analysis form. This is a paper-based reporting system that can be used by NaSH and non-NaSH facilities.

A different number of facilities will be completing each of the separate forms listed in the table. The number of respondents is the number of facilities. The number of responses per respondent varies with the form.

The maximum total burden hours may reach 86,720. (The total estimated maximum cost to respondents may be $1,300,800 [$15 an hour for hospital personnel who will collect/input the data]). Since all of the data collection activities except the HCW survey, outlined in the modules are currently routinely done by infection control practitioners and employee health, personnel health, and/or occupational medicine personnel in hospitals with existing well established surveillance programs, the only additional burden for some hospitals participating in the NaSH system is the time needed for data entry and transmission of data to CDC. Thus, the real burden hours and burden cost could be significantly less. The only activity that may not be routinely performed by the hospitals is the survey to assess underreporting of needlesticks (HCW survey).

This study is scheduled for implementation in late 2003 and 2004. There are no costs to respondents.

Form | Number of respondents (hospitals) | Number of responses/respondent | Avg. burden/response (in hours) | Total burden (in hours)
Baseline Information | 75 | 250 | 10/60 | 3,125
TST:
TST Result | 30 | 200 | 10/60 | 1,000
Positive TST | 20 | 100 | 30/60 | 1,000
Exposure to Blood:
Exposure | 50 | 100 | 60/60 | 5,000
Exposure (NaSH “Lite/abbreviated form) | 10 | 20 | 30/60 | 100
Postexposure prophylaxis | 50 | 80 | 20/60 | 1,333
Follow-up | 50 | 60 | 15/60 | 750
Exposure during smallpox vaccination:
Exposure event | 20 | 1 | 10/60 | 3
Root cause analysis | 20 | 1 | 60/60 | 20
Exposure to VPD:
Summary | 50 | 3 | 20/60 | 50
HCW | 50 | 10 | 20/60 | 167
Exposure to TB | 25 | 3 | 60/60 | 75
Noninfectious Injury | 25 | 20 | 20/60 | 167
HCW Survey | 25 | 500 | 10/60 | 2,083
Hospital Survey | 75 | 1 | 2 | 150
Total |  |  |  | 14,986

Dated: November 18, 2003.
Laura Yerdon Martin,
Acting Director, Executive Secretariat, Centers for Disease Control and Prevention.

[FR Doc. 03-29524 Filed 11-25-03; 8:45 am]

BILLING CODE 4163-18-P